DEPARTMENT OF THE INTERIOR

Fish and Wildlife Service

Seal Beach National Wildlife Refuge, Seal Beach, Orange County, CA

AGENCY: Fish and Wildlife Service, Interior.

ACTION: Notice of intent to prepare a comprehensive conservation plan and environmental assessment; announcement of public open house meetings; request for comments.

SUMMARY: We, the U.S. Fish and Wildlife Service (Service, we), intend to gather information necessary to prepare a comprehensive conservation plan (CCP) and associated environmental documents for the Seal Beach National Wildlife Refuge (NWR). We furnish this notice in compliance with our CCP policy to advise other agencies and the public of our intentions, and to obtain suggestions and information on the scope of issues to be considered in the planning process.

DATES: To ensure consideration, we must receive your written comments by May 18, 2007. Two public open house meetings will be held during the scoping phase of the comprehensive conservation plan development process. Special mailings, newspaper articles, and other media announcements will be used to inform the public and Tribe, state, and local governments of the dates and opportunities for input throughout the planning process.

ADDRESSES: Send your comments or requests for more information to Victoria Touchstone, Refuge Planner, San Diego National Wildlife Refuge Complex, 6010 Hidden Valley Road, Carlsbad, CA 92011; telephone: 760-431-9440 ex. 349; fax: 760-930-0256; or electronic mail: Victoria_Touchstone@fws.gov.

FOR FURTHER INFORMATION CONTACT: Victoria Touchstone, Refuge Planner, San Diego NWR Complex, 760-431-9440 extension 349.

SUPPLEMENTARY INFORMATION: With this notice, we initiate the CCP for the Seal Beach NWR with headquarters in Carlsbad, CA. Additional information is available by visiting the Refuge Planning section of the San Diego NWR Complex Web site at http://sandiegorefuges.fws.gov.

Background

The CCP Process

The National Wildlife Refuge System Administration Act of 1966, as amended by the National Wildlife Refuge System Improvement Act of 1997 (16 U.S.C. 668dd-668ee), requires the Service to develop a comprehensive conservation plan for each national wildlife refuge. The purpose of developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, which may include opportunities for hunting, fishing, wildlife observation, wildlife photography, and environmental education and interpretation.

We establish each unit of the National Wildlife Refuge System, including the Seal Beach NWR, with specific purposes. We use these purposes to develop and prioritize management goals and objectives within the National Wildlife Refuge System mission, and to guide which public uses will occur on these Refuges. The planning process is a way for us and the public to evaluate management goals and objectives for the best possible conservation efforts of this important wildlife habitat, while providing for wildlife-dependent recreation opportunities that are compatible with the Refuge's establishing purposes and the mission of the National Wildlife Refuge System.

We will conduct a comprehensive conservation planning process that will provide opportunities for Tribal, State, and local governments; agencies; organizations; and the public to participate in issue scoping and comment. You are encouraged to provide your input on issues, concerns, ideas, and suggestions for the future management of the Seal Beach NWR in Seal Beach, CA. The input provided during the scoping process will help us answer questions such as:

1. What problems or issues should be addressed in the CCP?

2. What changes or additions would improve conditions on the Seal Beach NWR?

Our Planning Team will take into consideration all of the comments it receives as part of the scoping process; however, we will not reference individual comments in our reports.

We will also give the public an opportunity to provide input at the open houses we have scheduled to scope issues and concerns. You may also submit written comments anytime during the planning process by mailing or e-mailing them to the above address.

We will conduct the environmental review of this project in accordance with the requirements of the National Environmental Policy Act of 1969, as amended (42 U.S.C. 4321 et seq.); NEPA Regulations (40 CFR parts 1500-1508); other appropriate Federal laws and regulations; and our policies and procedures for compliance with those regulations. All comments we receive from individuals on our environmental assessments and environmental impact statements become part of the official public record.

Before including your address, phone number, e-mail address, or other personal identifying information in your comment, be advised that your entire comment—including your personal identifying information—may be made publicly available at any time. While you can ask us in your comment to withhold from public review your personal identifying information, we cannot guarantee that we will be able to do so.

All information provided voluntarily by mail, phone, or at public meetings becomes part of our official public record (i.e., names, addresses, letters of comment, input recorded during meetings). If a private citizen or organization requests this information under the Freedom of Information Act, we may provide informational copies.

Seal Beach NWR

Seal Beach NWR is located about 25 miles south of downtown Los Angeles in northwestern Orange County, California. The approximately 965-acre Refuge overlays a portion of Naval Weapons Station Seal Beach (NWSSB) and is situated between the City of Seal Beach to the north and west and the City of Huntington Beach to the south and east.

Congress authorized the Secretary of the Interior to establish the Seal Beach NWR in Public Law 92-408 on August 29, 1972. The Secretary of the Interior, with the advice and consent of the Secretary of the Navy, established the Refuge on July 11, 1974. The Refuge was established to provide for the conservation, protection, and propagation of native species of fish and wildlife, including migratory birds that are threatened with extinction.

Protected within the Refuge is one of the largest remaining salt marshes along the southern California coast. These coastal wetlands support three federally listed species including the endangered California brown pelican, light-footed clapper rail, and California least tern. The state listed endangered Belding's savannah sparrows, along with the light-footed clapper rail and California least tern, nest and raise their young within the boundaries of the Refuge.

As a refuge that overlays a Naval Weapons Station, Seal Beach NWR must be managed in a manner that considers both the mission of the National Wildlife Refuge System and the mission of the Naval Weapons Station. To that end, we will be coordinating with the Navy in the development of the CCP for Seal Beach NWR. The Navy has also been coordinating with us in the development of its Integrated Natural Resources Management Plan for NWSSB.

Preliminary Issues, Concerns, and Opportunities

During the initial pre-planning phase of the CCP process, we identified a number of issues, concerns, and opportunities that may be addressed in the CCP. We have briefly summarized these issues below. We will likely identify additional issues as a result of the public scoping process.

Habitat Management: Measures necessary to preserve or improve the quality of the Refuge's coastal salt marsh habitat, which is influenced by such factors as subsidence, limited freshwater flows, and sea level rise, should be evaluated during the planning process.

Endangered Species Recovery: Listed species that nest on Seal Beach NWR could benefit from an evaluation of the management actions currently implemented to improve reproductive success for these species.

Erosion: Appropriate measures for remediating ongoing erosion problems along the banks and tidal channels of restored salt marsh habitat on the Refuge should be evaluated as part of the CCP process.

Public Use: Understanding that as an overlay refuge, public uses cannot compromise the mission of the Naval Weapons Station, are there opportunities for improving the current public use program on the Refuge?

Dated: April 10, 2007.
Ken McDermond,
Acting Manager, California/Nevada Operations, Sacramento, CA.

[FR Doc. E7-7117 Filed 4-13-07; 8:45 am]

BILLING CODE 4310-55-P